DEPARTMENT OF AGRICULTURE

Grain Inspection, Packers and Stockyards Administration

[03-a-s]

Designation for the Mississippi Area

AGENCY: Grain Inspection, Packers and Stockyards Administration, USDA.

ACTION: Notice.

SUMMARY: Grain Inspection, Packers and Stockyards Administration (GIPSA) announces the designation of Memphis Grain Inspection Service (Memphis) to provide official services under the United States Grain Standards Act, as amended (Act).

EFFECTIVE DATE: June 1, 2003.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the January 29, 2003, Federal Register (68 FR 4445), GIPSA announced that the Mississippi Department of Agriculture and Commerce was ceasing official inspection services, effective June 30, 2003, and asked persons interested in providing official services in the Mississippi geographic area to submit an application for designation. Applications were due by February 28, 2003. Subsequently, the Mississippi Department of Agriculture and Commerce officials asked GIPSA to move their voluntary cancellation date to May 31, 2003.

Memphis was the sole applicant for designation to provide official services in the area specified in the January 29, 2003, Federal Register. GIPSA asked for comments on Memphis in the March 24, 2003, Federal Register (68 FR 14179). We received one favorable comment from an official agency manager by the closing date, April 23, 2003.

GIPSA evaluated all available information regarding the designation criteria in Section 7(f)(l)(A) of the Act and, according to Section 7(f)(l)(B), determined that Memphis, main office in Memphis, Tennessee, is able to provide official services in the geographic area specified in the January 29, 2003, Federal Register, for which they applied, in addition to the areas they are already designated to serve. The designation is effective June 1, 2003, and ends March 31, 2006, concurrent with their present designation. Interested persons may obtain official services by calling Memphis at 901-942-3216.

Authority: Pub. L. 94-582, 90 Stat. 2867, as amended (7 U.S.C. 71 et seq.).

Dated: May 19, 2003.
Donna Reifschneider,
Administrator, Grain Inspection, Packers and Stockyards Administration.

[FR Doc. 03-12852 Filed 5-21-03; 8:45 am]

BILLING CODE 3410-EN-P